DEPARTMENT OF COMMERCE

Bureau of the Census

[Docket Number 061026279-6279-01]

Annual Retail Trade Survey

AGENCY: Bureau of the Census, Commerce.

ACTION: Notice of determination.

SUMMARY: The Bureau of the Census (Census Bureau) is conducting the Annual Retail Trade Survey (ARTS). The Census Bureau has determined a need to collect data covering annual sales, e-commerce sales, percent of e-commerce sales to customers located outside the United States, year-end inventories, total operating expenses, purchases, accounts receivables and, for select industries, merchandise line sales and percent of sales by class of customer.

ADDRESSES: The Census Bureau will furnish report forms to organizations included in the survey. Additional copies are available upon written request to the Director, U.S. Census Bureau, Washington, DC 20233-0101.

FOR FURTHER INFORMATION CONTACT: Mr. John Miller, Service Sector Statistics Division, at (301) 763-2747.

SUPPLEMENTARY INFORMATION: The ARTS is a continuation of similar retail trade surveys conducted each year since 1951 (except 1954). This survey provides, on a comparable classification basis, annual sales, e-commerce sales, purchases, and year-end inventories for 2006. These data are not publicly available from non-governmental or other governmental sources on a timely basis.

The Census Bureau will require a selected sample of firms operating retail establishments in the United States (with sales size determining the probability of selection) to report in the 2006 ARTS. We will furnish report forms to the firms covered by this survey and will require their submissions within 30 days after receipt. The sample will provide, with measurable reliability, statistics on the subjects specified above.

The Census Bureau is authorized to take surveys that are necessary to furnish current data on the subjects covered by the major censuses authorized by Title 13, United States Code (U.S.C.), Sections 182, 224, and 225. This survey will provide continuing and timely national statistical data on retail trade for the period between economic censuses. For 2006, the survey will, as it has in the past, operate as a separate sample of retail companies. The data collected in this survey will be similar to that collected in the past and within the general scope and nature of those inquiries covered in the economic census. These data will provide a sound statistical basis for the formation of policy by various government agencies.

Notwithstanding any other provision of law, no person is required to respond to, nor shall a person be subject to a penalty for failure to comply with, a collection of information subject to the requirements of the Paperwork Reduction Act (PRA) unless that collection of information displays a current valid Office of Management and Budget (OMB) Control Number. In accordance with the PRA, Title 44, U.S.C., Chapter 35, the OMB approved the ARTS under OMB Control Number 0607-0013.

Based upon the foregoing, I have directed that an annual survey be conducted for the purpose of collecting these data.

Dated: November 1, 2006.
Charles Louis Kincannon,
Director, Bureau of the Census.

[FR Doc. E6-18718 Filed 11-6-06; 8:45 am]

BILLING CODE 3510-07-P